DEPARTMENT OF DEFENSE

Department of the Navy

Notice of Intent To Grant Exclusive Patent License; Diversified Technology and Development, Inc.

AGENCY: Department of the Navy, DoD.

ACTION: Notice.

SUMMARY: The Department of the Navy hereby give notice of its intent to grant to Diversified Technology and Development, Inc. a revocable, nonassignable, exclusive license in the United States, to Navy Case No. 83860 and Navy Case No. 84146 entitled “Internal Locking Device for Use on Magazine Doors.”

DATES: Anyone wishing to object to the granting of this license has (15) days from the date of this notice to file written objections along with supporting evidence, if any.

ADDRESSES: Written objections are to be filed with the Office of Naval Research, ONR 00CC, Ballston Tower One, 800 North Quincy St., Arlington, VA 22217-5660.

FOR FURTHER INFORMATION CONTACT: Mr. A. David Spevack, Supervisory Associate Counsel, Intellectual Property, Office of Naval Research, ONR 00CC, Ballston Tower One, 800 North Quincy St., Arlington, VA 22217-5660, telephone (703) 696-4007, E-Mail: spevacd@onr.navy.mil or fax (703) 696-6909.

(Authority: 35 U.S.C. 207, 37 CFR part 404.)

Dated: May 20, 2003.
E.F. McDonnell,
Major, U.S. Marine Corps, Federal Register Liaison Officer.

[FR Doc. 03-13586 Filed 5-29-03; 8:45 am]

BILLING CODE 3810-FF-M